DEPARTMENT OF TRANSPORTATION

National Highway Traffic Safety Administration

49 CFR Part 571

[Docket No. NHTSA-2003-15712]

RIN 2127-AJ43

Federal Motor Vehicle Safety Standards; Glazing Materials

AGENCY: National Highway Traffic Safety Administration (NHTSA), Department of Transportation (DOT).

ACTION: Final rule; response to petitions for reconsideration; correction.

SUMMARY: NHTSA published a final rule in July 2003 that updated the Federal motor vehicle safety standard on glazing materials. The agency received several petitions for reconsideration of the rule, and has published documents that have delayed the rule's effective date. Today's document completes the response to the petitions by amending provisions on shade band requirements; by providing a compliance option to certain aftermarket glazing materials; by delaying the compliance date of the rule for motor vehicle manufacturers by two months so that they can deplete glazing inventories; and by correcting several provisions of the rule.

DATES: This final rule becomes effective August 11, 2005. The date on which vehicle manufacturers and manufacturers of slide-in campers and pickup covers designed to carry persons while in motion must comply with the final rule published on July 25, 2003 (68 FR 43964), as amended on September 26, 2003 (68 FR 55544), January 5, 2004 (69 FR 279) and on August 18, 2004 (69 FR 51188), is delayed until November 1, 2006. Any petitions for reconsideration of today's final rule must be received by NHTSA not later than August 26, 2005.

FOR FURTHER INFORMATION CONTACT: For non-legal issues, you may call Ms. Lori Summers, Office of Crashworthiness Standards, at (202) 366-1740, facsimile (202) 366-7002, or Mr. Patrick Boyd, Office of Crash Avoidance Standards, at (202) 366-6346, facsimile (202) 493-7002.

For legal issues, you may call Ms. Dorothy Nakama, Office of the Chief Counsel, at (202) 366-2992, facsimile (202) 366-3820.

You may send mail to any of these officials at the National Highway Traffic Safety Administration, 400 Seventh Street, SW., Washington, DC 20590.

SUPPLEMENTARY INFORMATION:

Table of Contents

I. Background

II. Shade Bands

a. Background

1. Final rule

2. Petitions for reconsideration

b. Agency's Response

1. Up-angle of the windshield shade band

2. Excepted areas

3. Aftermarket parts

4. Side and rear windows

5. Compliance dates

III. Most Difficult Part Or Pattern And Other Corrections

a. Meaning of the “most difficult part or pattern” in the fracture test

b. Applicability of glazing requirements to multipurpose passenger vehicles

c. Item 4A glazing

d. Location of arrow within “AS” markings

IV. Regulatory Analyses and Notices

I. Background

Federal Motor Vehicle Safety Standard (FMVSS) No. 205, Glazing Materials, specifies performance requirements for glazing installed in motor vehicles. It also specifies the vehicle locations in which the various types of glazing may be installed. On July 25, 2003 (68 FR 43964)(Docket No. NHTSA-2003-15712), NHTSA published a final rule (July 2003 final rule ¹) updating FMVSS No. 205 by incorporating by reference the 1996 version of the industry standard, American National Standard for Safety Glazing Materials for Glazing Motor Vehicles and Motor Vehicle Equipment Operating on Land Highways, hereinafter referred to as “ANSI/SAE Z26.1-1996”. Prior to the July 2003 final rule, FMVSS No. 205 referenced the 1977 version of ANSI Standard Z26.1 and the 1980 supplement to that standard. By incorporating by reference ANSI/SAE Z26.1-1996, the agency was able to remove most of the existing text in FMVSS No. 205 and thus simplified the glazing standard.

¹ See also 68 FR 55544, 69 FR 279, and 69 FR 51188, discussed below, which delayed the effective date of the rule and made other amendments.

In addition to incorporating ANSI/SAE Z26.1-1996, the final rule addressed several issues not covered by that standard. Among other matters, the final rule limited the size of the shade band located at the top of the windshield and interpreted the meaning of the term “the most difficult part or pattern” for the fracture test in ANSI/SAE Z26.1-1996. The agency received petitions for reconsideration on several aspects of the final rule, including the date on which compliance with the amended requirements would become mandatory, the shade band requirements and the regulatory text the agency used in interpreting “the most difficult part or pattern” term.

In partial response to issues raised in the petitions, NHTSA delayed the compliance date of the July 2003 final rule from January 22, 2004 to September 1, 2006 in final rules published at 68 FR 55544 (September 26, 2003), 69 FR 279 (January 5, 2004), and 69 FR 51188 (August 18, 2004). Today's document responds to the remaining issues raised by the petitions for reconsideration of the July 2003 final rule. The main remaining issues pertain to the requirements for shade bands, and the text used in the standard concerning the fracture test of ANSI/SAE Z26.1-1996.²

² Several of the petitions for reconsideration raised concerns about interpretation letters issued by NHTSA on November 26, 2002 and July 25, 2003 to Mr. Larry Costa, concerning whether the fracture test is to be conducted with soldered terminals attached to the glazing. This issue was not raised or discussed in this rulemaking in either the August 4, 1999 NPRM or the July 25, 2003 final rule, and thus is outside the scope of this rulemaking and will not be addressed in this document.

II. Shade Bands

a. Background

ANSI/SAE Z26.1 requires most passenger car windows to pass a light transmittance test that assures that windows transmit 70 percent of the incident light. However, the standard permits parts of a piece of vehicle glazing that are not needed for driving visibility to be tinted more darkly. The most familiar location for those more darkly tinted areas is the top several inches of the windshield. This area is typically called a “shade band.” ³

³ Since we need to be able, for the purposes of compliance testing, to differentiate between those areas of a window that are intended to meet the 70 percent transmittance requirement and those areas that are not so intended, the limit of the shade band needs to be marked on the glazing. Section 7 of ANSI Z26.1-1996 requires that if an area of glazing intentionally made with a luminous transmittance less than 70 percent adjoins an area that has 70 percent or more luminous transmittance, the former area must be permanently marked at the edge to show the limits of the area that are supposed to comply with the test. The markings have a line parallel to the edge of the tinted area, and an arrow perpendicular to that line showing the item number of the glazing in the direction of the arrow. This mark is called the “AS-1 line.”

Prior to the July 2003 final rule, the size of the shade band was not explicitly defined by Standard No. 205. Even ANSI/SAE Z26.1-1996 did not set boundaries for how much of an area the shade band may occupy. This raised NHTSA's concern that, hypothetically, a shade band with the proper markings could cover most of a driver's field of view through the windshield and still comply with ANSI/SAE Z26.1-1996, even though for proper driving visibility the windshield should be clear (i.e., meet the 70 percent light transmittance requirement of FMVSS No. 205). NHTSA sought to set a requirement that established boundaries for shade bands to limit their potential encroachment on the driver's field of view.

The August 1999 NPRM set about accomplishing this by proposing to incorporate into FMVSS No. 205 an industry recommended practice developed by the Society of Automotive Engineers (SAE) that established boundaries for shade bands. This recommended practice, “Class ‘A’ Vehicle Glazing Shade Bands—SAE J100 June 1995,” is based on the eyellipse of a 95th percentile male. The eyellipse is a statistical representation of the 95th percentile male driver's eye positions in a vehicle. The eyellipse of a 95th percentile male is specified because tall drivers are more likely than short drivers to have their line of vision at least partially blocked by a shade band. The lower boundary for the shade band, as seen in side view, is a line tangent to the upper edge of the 95th eyellipse, and inclined 5 degrees up from the horizontal. (This inclined angle is referred to as the “up-angle” of 5 degrees.) The NPRM requested comment on the appropriateness of SAE J100 and on whether there were other, alternative industry standards that the agency should consider (64 FR at 42333).

In comments to the NPRM, Toyota Motor Corporation and the Flat Glass Manufacturers Association of Japan (FGMAJ) suggested harmonizing the shade band requirement with ECE R43 92/22EC (ECE R43). ECE R43 is used in Europe and Japan. It uses an up-angle of 7 degrees to determine the upper limit of the area for driving visibility. It also differs from SAE J100 by relying on the location of the European “R-point” in the seating design to define the boundaries for the shade bands, in contrast to SAE J100's use of the SAE seating reference point (SgRP). (There are further minor differences between SAE J100 and ECE R43.⁴)

⁴ The test zones used by each standard are generated using different methods. The European test zone uses the ISO “V” points (coordinates related to seat back angle) while the U.S. zones are based on the SAE J941 eyellipse. However, the ISO “V” points are a derivative of the SAE eyellipse, and generate substantially similar zones. While the zones are not identical, the differences in practice account for only slight variations in calculated outcomes.

1. Final Rule

Because there were only slight technical differences between SAE J100 and ECE R43, and because the FMVSSs generally use the SgRP to define locations in vehicles rather than the R-point, NHTSA decided to adopt generally the SAE J100 recommended practice. That decision permitted manufacturers that presently manufacture their shade bands in accordance with SAE J100 to continue using the vehicle coordinates defined in SAE J100. However, the adoption included a substitution of the ECE R43 up-angle of 7 degrees to determine the upper limit of the area for driving visibility, instead of the SAE procedure up-angle of 5 degrees.

NHTSA believed that, due to the 7 degree up-angle, the shade band boundary line for most vehicles will likely more closely approximate the ECE R43 line than the line generated using the SAE J100 procedure. Thus, the agency believed that manufacturers would be able to market vehicles with the same AS-1 line in both Europe and the United States.

NHTSA further stated that it had commissioned General Test Laboratories (GTL) to undertake a small study of five windshields to determine, among other matters, the extent to which the shade bands on the vehicles fell within the boundaries specified for shade bands in ECE R43 (68 FR at 43968). One of the windshields had no shade band. Of the remaining four, three met the ECE R43 limit. The windshield that did not meet the limit was that of the Chevrolet Camaro, whose shade band was 20 millimeters (0.8 inches) over the ECE R43 boundary. NHTSA believed that the extent of this hypothetical test failure was slight, and that modifying the shade band location by 25 millimeters (mm)(1 inch) or less represents a reasonable undertaking that: (a) Would not be costly for manufacturers; and (b) could be accomplished within a short lead time.

2. Petitions for Reconsideration

DaimlerChrysler, General Motors (GM), PPG, Pilkington, and Visteon asked that the agency reconsider its decision to change the visibility up-angle from 5 degrees to 7 degrees. DaimerChrysler, GM and Pilkington believed that commenters were not given an opportunity to comment on the change of the up-angle from 5 to 7 degrees. Petitioners stated that NHTSA had not demonstrated a safety need or safety benefit for the modification. DaimlerChrysler, GM, Pilkington and PPG believed that, although the preamble to the final rule identified international harmonization as NHTSA's primary purpose for the change, NHTSA did not harmonize because it only adopted the 7 degree up-angle portion of ECE R43 in conjunction with the remaining requirements of SAE J100.

Petitioners also said that NHTSA had not performed any study indicating the percentage of vehicles that may not meet the new 7 degree up-angle requirement, and contend that the change to a 7 degree up-angle would place a significant burden on manufacturers. DaimlerChrysler estimated that 25 percent of vehicles currently in production would not comply with the 7 degree up-angle requirement.

Other issues raised by the petitioners pertained to excepted areas of the windshield, the burden of meeting the standard, excluding aftermarket items of glazing, and applying the requirements to side and rear windows. All of these issues are discussed below.

b. Agency's Response

1. Up-Angle of the Windshield Shade Band

The agency provided notice of and an opportunity to comment on the proposed adoption of limits on the width of shade bands. The NPRM specifically proposed an approach that determined the lower boundary of shade bands by way of measuring an up-angle. Comments were requested on the appropriateness of the proposal and on whether there were other, alternative industry standards that the agency should consider (64 FR at 42333). The 7 degree up-angle was adopted in response to Toyota's and FGMAJ's comments to the NPRM that suggested that the agency consider adopting ECE R43, which has a 7 degree up-angle specification. The incorporation of the 7 degree up-angle was a logical outgrowth of the proposal for a 5 degree up-angle. It was adopted to harmonize that aspect of FMVSS No. 205 with the European standard.

In response to the comments, NHTSA agrees that harmonization was only partly achieved using the 7 degree up-angle. The agency adopted the European shade band standard as it did because ECE R43 specified use of a different coordinate system for determining shade band boundaries than the system generally used in the FMVSS. NHTSA believed that requiring the use of a new coordinate system would burden vehicle manufacturers that now use the SAE coordinate system for design, since new software and design measurements would have to be used.

On reconsideration, the agency has decided to allow manufacturers to choose either the harmonized shade band provisions of ECE 43 or the unmodified windshield shade band provisions of SAE J100. This final rule gives manufacturers the option of meeting either SAE J100 with a 5 degree up-angle (using the vehicle coordinate system commonly used in the U.S.) or the shade band requirements of ECE R43 with a 7 degree up-angle (using the coordinate system used in Europe). Some vehicle platforms are already produced to meet the ECE R43 shade band requirements, so manufacturers of those vehicles choosing the latter option will be able to readily certify to FMVSS No. 205.

2. Excepted Areas

DaimlerChrysler stated that the July 2003 final rule did not consider the current version of ECE R43, which defines in annex 18 a “reduced area B” in addition to area B. Reduced area B allows obscurations with a maximum width of 300 millimeters, centered to the longitudinal median plane of the vehicle, between the 7 degree and a 3 degree up-angle.

NHTSA agrees with DaimlerChrysler that the language of the final rule did not include a recent amendment to ECE 43 establishing the excepted area. The provision for the excepted area has been added to the ECE 43 shade band specification in that shade band alternative.

3. Aftermarket Parts

Visteon opposed incorporating SAE J100 regardless of which up-angle is specified because of the effect of the incorporation on the glass replacement aftermarket. Visteon stated that data on the vehicle SgRP or the 95th percentile eyellipse that are needed to verify location of the bottom-most edge of the shade band are owned and/or controlled by the vehicle manufacturers, not the glass manufacturer. Pilkington stated that the vehicle design information is not readily available to the glazing manufacturer other than in the early stages of vehicle development. Pilkington was concerned that when the vehicle goes out of production, even the vehicle manufacturer may lose the information. The petitioner believed that determining which windshields on vehicles out of production need their shade bands raised to meet the new 7 degree up-angle “would be a tedious and time consuming exercise.”

DaimlerChrysler, Pilkington, GM and PPG asked that the agency consider permitting aftermarket replacement glazing (materials replacing glazing installed as original equipment) the option of complying with the requirements of FMVSS No. 205 as they existed prior to the July 2003 rulemaking. Petitioners stated that it would not be feasible to redesign replacement glazing for vehicles manufactured before the effective date of the rule such that the glazing would meet the updated requirements of FMVSS No. 205. GM stated that replacement glazing for vehicles manufactured prior to the effective date of the rule could become scarce, and consequently expensive, if required to meet the new standard.

On reconsideration, we agree with the petitioners that it may not be practical to apply the new FMVSS No. 205 requirements to aftermarket replacement glazing for older vehicles that are not subject to the new requirements of the standard. Therefore, we have decided to permit manufacturers of replacement glazing to meet the requirements of the glazing being replaced. They may meet either the upgraded FMVSS No. 205 or FMVSS No. 205(a), a reinstatement of the version of FMVSS No. 205 as it existed prior to the July 2003 final rule. Note that replacement glazing parts for vehicles required to meet the new FMVSS No. 205 requirements must meet the new FMVSS No. 205, including the shade band requirements at S5.3.

4. Side and Rear Windows

The agency stated in the preamble to the final rule that it believed that shade bands rarely exist on fixed side and rear windows since the majority of side and rear windows are tempered glass and shade bands can only be applied to laminated glazing (by tinting the inner layer). The preamble stated that “the agency has decided to apply the provisions of SAE J100 exclusively to windshield applications.” NHTSA noted that light transmittance requirements for side and rear windows in FMVSS No. 205 and ANSI/SAE Z26.1-1996 will continue to apply to side and rear windows.

Pilkington expressed concern in its petition for reconsideration that shade bands are currently being placed on side and rear windows and on windshields by means other than by tinting the inner layer of laminated glazing. The petitioner stated that eliminating printed shade bands on side or rear windows or windshields would render a large number of current vehicles out of compliance with the standard.

In response to Pilkington, the final rule did not apply the shade band requirements to glazing other than the windshield. S5.3 of the standard applies to “shade band areas for windshields” (emphasis added). Although FMVSS No. 205 does not specify any SAE J100 shade band requirements for side or rear windows, as noted in the July 2003 final rule, “the light transmittance requirements for side and rear windows contained in FMVSS No. 205 and ANSI/SAE Z26.1-1996 will continue to apply to side and rear windows.” (See 68 FR at 43969.) That is, shade bands on side and rear windows must not impede the ability of the vehicle to meet the light transmittance requirements of the standard at “levels requisite for driving visibility.” Areas on a piece of glazing above or below the “levels requisite for driving visibility” may be shaded as before.

5. Compliance Dates

There were compliance burdens associated with the July 2003 final rule that the petitions for reconsideration asked us to address and which this and earlier final rules have addressed. However, this final rule avoids any shade band changes for manufacturers using either the U.S. SAE practice or the European ECE 43 regulation.

Nonetheless, we recognized that manufacturers needed more time than that provided by the July 2003 final rule to test their products for compliance with the new shade band requirements. Accordingly, the August 18, 2004 final rule (69 FR 51188) extended the effective date of the original final rule from January 22, 2004 to September 1, 2006. The September 1, 2006 effective date gave NHTSA more time to respond to the petitions for reconsideration, and, as it was more than 3 years from the issuance of the July 2003 final rule, provided manufacturers more time to test vehicles.⁵

⁵ As discussed above, this final rule also reduces the burdens on manufacturers by allowing manufacturers the compliance option of meeting ECE R43's shade band requirements, providing an exception area behind the inside rear view mirror, and excluding certain aftermarket components from the amended FMVSS No. 205. Each of these actions facilitate the manufacturers' ability to meet the new requirements within the provided leadtime.

This document makes a small adjustment with regard to its application to vehicle manufacturers. A September 29, 2004 letter from Glenn Underwood of AGC Automotive-Americas (AGC) expressed concern that applying the effective date of the final rule to both motor vehicles and to motor vehicle equipment on the same day (September 1, 2006) impedes vehicle manufacturers' abilities to deplete inventory levels, which AGC stated could be at or above 60 days. It stated that its customers (vehicle manufacturers) are concerned that on September 1, 2006, they could be in the position of assembling vehicles that do not comply with the updated requirements of FMVSS No. 205 if they use glazing in inventory that was certified to the previous FMVSS No. 205. AGC asked that the new requirements be “phased in” so that AGC's customers would not have to “replace all parts which do not comply” on built vehicles.⁶

⁶ We pointed out in our reply to AGC that the July 2003 final rule provided for optional early compliance on the part of manufacturers. Thus, a glazing manufacturer could comply with the revised FMVSS No. 205 before September 1, 2006, and provide the certified glazing to the vehicle manufacturer ahead of September 1, 2006.

To address AGC's concerns without reducing the lead time provided for glazing equipment manufacturers to meet the standard's requirements, we are adjusting the effective date of the final rule to provide vehicle manufacturers 60 days to use the non-conforming glazing in their inventories. (We are also providing the additional 60 days to manufacturers of slide-in campers and pickup covers designed to carry persons while in motion, since they too could have glazing inventories.) Currently, the compliance date for vehicles is September 1, 2006 (i.e., vehicles manufactured on or after September 1, 2006 must meet the upgraded standard). This rule extends that motor vehicle compliance date to November 1, 2006. The compliance date of September 1, 2006 is not changed for glazing equipment that is not manufactured as replacement glazing.

III. Most Difficult Part or Pattern and Other Corrections

a. Meaning of the “Most Difficult Part or Pattern” in the Fracture Test

Prior to the July 2003 final rule, FMVSS No. 205 incorporated the 1977 version of ANSI/SAE Z26.1 which, among other things, required a fracture test (Test No. 7) of a 12-inch square, flat sample of glazing. In contrast, ANSI/SAE Z26-1-1996 requires the use of a full-size production piece of vehicle window glass, which benefits safety by more accurately assessing the performance of the glazing actually used on a vehicle. Section 5.7.2 of ANSI/SAE Z26.1-1996 also states that the specimens of glazing selected for testing “* * * shall be of the most difficult part or pattern designation within the model number.” ⁷

⁷ Fracture Test No. 7 states, “[T]he number of specimens selected from each model number of glazing shall be six (6) and shall all be of the most difficult part or pattern [emphasis added] designation within the model number. The fracture origin or break point is 25 mm (1 inch) inboard of the edge at the midpoint of the longest edge of the specimen. If the specimen has two long edges of equal length, the edge nearer the manufacturer's trademark is chosen. To pass the test, the largest fractured particle must weigh 4.3 g (0.15 oz.) or less.”

The provision for the “most difficult part or pattern” was interpreted by NHTSA in the NPRM as referring to the part of the glazing that provided for “worst case” testing, i.e., the portion of the glazing that NHTSA considered most likely to fail the test. The agency proposed stating in S5.1.2: “NHTSA may test any portion of the glazing when doing the fracture test (Test No. 7) described in section 5.7 of ANS Z26.”

Comments to the NPRM disagreed with the interpretation and persuaded NHTSA that the interpretation of the NPRM was incorrect. The agency decided in the final rule that the correct interpretation was that the “most difficult part or pattern” refers to the worst-case component with respect to fracture performance, not the worst-case component test location on a particular component. (As illustrated by the agency in the final rule preamble, if a manufacturer produced side and rear windows with the same model number and the rear window performed worse in the fracture performance test, then the rear window must pass the fracture performance test.) NHTSA said in the preamble to the final rule that it “has decided to clarify that any piece of glazing subject to the fracture test may be tested, and that the test procedure will be a single fracture origin or break point 25 mm (1 in.) inboard at the edge of the midpoint of the longest edge of the specimen as specified in ANSI/SAE Z26.1-1996.” (Emphasis in text.)

Notwithstanding this statement, the regulatory text of the final rule (S5.2) was not changed from that of S5.1.2 of the NPRM to reflect this revised interpretation.

In petitions for reconsideration, GM, Pilkington, and PPG asked the agency to amend S5.2 to reflect the revised interpretation discussed in the preamble to the final rule. Petitioners also suggest that NHTSA amend S5.2 in accordance with SAE's comments to the NPRM, to state: “NHTSA may conduct the Fracture Test as specified in ANSI/SAE Z26.1-1996 Section 5.7 on any piece of glazing material that is required to comply with Section 5.7.”

Today's final rule corrects S5.2 to make it consistent with the discussion of the preamble of the final rule. The corrected regulatory text states that each of the test specimens described in ANSI/SAE Z26.1-1996 Section 5.7 (fracture test) must meet the fracture test requirements of that section when tested in accordance with the test procedure set forth in that section.

b. Applicability of Glazing Requirements to Multipurpose Passenger Vehicles

As noted in the preamble to the July 2003 final rule, NHTSA intended to retain a provision in FMVSS No. 205 (S5.1.1.6) that required that multipurpose passenger vehicles (MPVs) must meet the same glazing requirements as those required for trucks (68 FR at 43970). An express provision was needed in the revised FMVSS No. 205, because while ANSI/SAE Z26.1-1996 prohibits the use of deep tinted windows adjacent to the driver in trucks, it does not extend the same prohibition to MPVs. However, notwithstanding the intent of the agency, the regulatory text of the July 2003 final rule excluded the provision from the final rule. We are correcting this oversight by adding a subsection to S5.1 to specify that, except as otherwise specifically provided by the standard, glazing for use in multipurpose passenger vehicles shall conform to the requirements for glazing specified in ANSI/SAE Z26.1-1996 for use in trucks.

c. Item 4A Glazing

The following correcting amendment responds to an October 18, 2004 letter submitted by Lance Tunick of Vehicle Services Consulting, Inc., regarding the use of item 4A rigid plastic glazing and to a May 6, 2005 “petition for technical corrections” from the Alliance of Automobile Manufacturers.

Prior to the July 2003 final rule, FMVSS No. 205 permitted item 4A glazing in all areas in which Item 4 safety glazing may be used, provided, however, that for side windows, the item 4A glazing was only allowed to be used rearward of the “C” pillar. After issuance of the July 2003 final rule, NHTSA discovered that the incorporation of the 1996 version of ANSI/SAE Z26.1 inadvertently permitted item 4A glazing to be used in side windows rearward of the “B” pillar. The agency sought in the September 26, 2003 final rule to correct this oversight by adding an S5.5 to FMVSS No. 205, “to make clear that Item 4A glazing is only permitted for use in side windows rearward of the “C” pillar.” (68 FR 55544.)

Mr. Tunick stated that S5.5 appears to prohibit the use of Item 4A glazing in the rear window of a convertible passenger car top and asked if that was our intent. The answer is no. We did not intend to limit Item 4A to only side windows rearward of the C pillar, to the exclusion of other locations for such glazing that are now permitted under Item 4 in the existing FMVSS No. 205. To clarify the language of the standard, we are amending S5.5 of FMVSS No. 205 along the lines suggested by Mr. Tunick in his letter. The amended S5.5 reads as follows: “S5.5 Item 4A Glazing. Item 4A glazing may be used in all areas in which Item 4 safety glazing may be used, and also for side windows rearward of the “C” pillar. I.e., Item 4A glazing may be used under Item 4A paragraph (b) of ANSI/SAE Z26.1-1996 only in side windows rearward of the ‘C’ pillar.”

d. Location of Arrow Within “AS” Markings

In its petition for technical corrections of May 6, 2005, the Alliance of Automobile Manufacturers (the Alliance) also asked that the “longstanding location of the arrow within the ‘AS' marking be restored.” The Alliance explained that prior to the 1996 update to ANSI/SAE Z26.1, the arrow appeared in the second position of the “AS” marking; e.g., A↓S1 ⁸ or A↑S2. In a typographical error in the 1996 update, the arrow was inadvertently moved to the third position in the marking to read, e.g., AS↑2. In an interpretation letter of December 1, 2004 to AGC Automotive, NHTSA confirmed that this revised arrow location would be required when the amended FMVSS No. 205 takes effect.

⁸ In ANSI/SAE Z26.1-1996, the “arrow down” marking includes a horizontal line above the “A↓S1,” and the “arrow up” marking includes a horizontal line below the “A↑S1.”

The Alliance stated that the SAE Glazing Committee convened a special meeting on March 8, 2005 to discuss the arrow location issue and to consider remedies. The Glazing Committee clarified that the revised arrow location was unintentional, and a typographical error in ANSI/SAE Z26.1-1996. It was also recognized during the March 8, 2005 meeting that changing silk screens to comply with the erroneous arrow location would be extremely costly and would require “considerable” lead time.

The Alliance stated that although the SAE Glazing Committee has initiated a technical correction to ANSI/SAE Z26.1 to restore the arrow location to the second position of the “AS” marking, it was not certain that SAE will complete its work soon enough to allow NHTSA to simply incorporate it by reference. Accordingly, the Alliance recommended that S3.2(a) and S5.1 of FMVSS No. 205 be revised to restore the arrow to the second slot of the AS marking.

NHTSA agrees that the revised arrow location was a typographical error in ANSI/SAE Z26.1-1996, and that industry should not have to incur unnecessary expenses to comply with the erroneous arrow location. Therefore, in this final rule, at S5.1.3, NHTSA corrects the typographical error in ANSI/SAE Z26.1-1996 by including an exception to ANSI/SAE Z26.1-1996 by reinstating the arrow in the “AS” marking to the second position. NHTSA will not amend S3.2(a), which is the provision in FMVSS No. 205 incorporating by reference ANSI/SAE Z26.1-1996.

IV. Regulatory Analyses and Notices

A. Executive Order 12866, Regulatory Planning and Review

Executive Order 12866, “Regulatory Planning and Review” (58 FR 51735, October 4, 1993), provides for making determinations whether a regulatory action is “significant” and therefore subject to Office of Management and Budget (OMB) review and to the requirements of the Executive Order. The Order defines a “significant regulatory action” as one that is likely to result in a rule that may:

(1) Have an annual effect on the economy of $100 million or more or adversely affect in a material way the economy, a sector of the economy, productivity, competition, jobs, the environment, public health or safety, or State, local, or Tribal governments or communities;

(2) Create a serious inconsistency or otherwise interfere with an action taken or planned by another agency;

(3) Materially alter the budgetary impact of entitlements, grants, user fees, or loan programs or the rights and obligations of recipients thereof; or

(4) Raise novel legal or policy issues arising out of legal mandates, the President's priorities, or the principles set forth in the Executive Order.

This rulemaking document was not reviewed under Executive Order 12866. It is not significant within the meaning of the DOT Regulatory Policies and Procedures. The effect of this rulemaking action is to clarify regulatory requirements of a final rule of July 25, 2003. It will not impose any additional burden on any person. The agency believes that this impact is so minimal as to not warrant the preparation of a full regulatory evaluation.

B. Environmental Impacts

We have not conducted an evaluation of the impacts of this final rule under the National Environmental Policy Act. This rulemaking action clarifies regulatory requirements in a final rule of July 25, 2003. This rulemaking does not impose any change that would have any environmental impacts. Accordingly, no environmental assessment is required.

C. Regulatory Flexibility Act

Pursuant to the Regulatory Flexibility Act, we have considered the impacts of this rulemaking action will have on small entities (5 U.S.C. Sec. 601 et seq.). I certify that this rulemaking action will not have a significant economic impact upon a substantial number of small entities within the context of the Regulatory Flexibility Act.

The following is our statement providing the factual basis for the certification (5 U.S.C. Sec. 605(b)). The final rule affects manufacturers of motor vehicles and motor vehicle glazing. According to the size standards of the Small Business Association (at 13 CFR Part 121.601), manufacturers of glazing are considered manufacturers of “Motor Vehicle Parts and Accessories” (SIC Code 3714). The size standard for SIC Code 3714 is 750 employees or fewer. The size standard for manufacturers of “Motor Vehicles and Passenger Car Bodies” (SIC Code 3711) is 1,000 employees or fewer. This final rule will not have any significant economic impact on a substantial number of small businesses in these industries because the rule only clarifies requirements of a final rule of July 25, 2003. Small organizations and governmental jurisdictions that purchase glazing will not be significantly affected because this rulemaking will not cause price increases. Accordingly, we have not prepared a Final Regulatory Flexibility Analysis.

D. Executive Order 13132, Federalism

E.O. 13132 requires NHTSA to develop an accountable process to ensure “meaningful and timely input by State and local officials in the development of regulatory policies that have federalism implications.” E.O. 13132 defines the term “Policies that have federalism implications” to include regulations that have “substantial direct effects on the States, on the relationship between the national government and the States, or on the distribution of power and responsibilities among the various levels of government.” Under E.O. 13132, NHTSA may not issue a regulation that has federalism implications, that imposes substantial direct compliance costs, and that is not required by statute, unless the Federal government provides the funds necessary to pay the direct compliance costs incurred by State and local governments, or NHTSA consults with State and local officials early in the process of developing the proposed regulation.

This final rule will not have substantial direct effects on the States, on the relationship between the national government and the States, or on the distribution of power and responsibilities among the various levels of government as specified in E.O. 13132. Thus, the requirements of section 6 of the Executive Order do not apply to this rule.

E. The Unfunded Mandates Reform Act

The Unfunded Mandates Reform Act of 1995 (Pub. L. 104-4) requires agencies to prepare a written assessment of the costs, benefits and other effects of proposed or final rules that include a Federal mandate likely to result in the expenditure by State, local or tribal governments, in the aggregate, or by the private sector, of more than $100 million annually. This action will not result in additional expenditures by state, local or tribal governments or by any members of the private sector. Therefore, the agency has not prepared an economic assessment pursuant to the Unfunded Mandates Reform Act.

F. Paperwork Reduction Act

Under the Paperwork Reduction Act of 1995 (44 U.S.C. 3501 et seq.) (PRA), a person is not required to respond to a collection of information by a Federal agency unless the collection displays a valid OMB control number. This final rule does not impose any new collection of information requirements for which a 5 CFR part 1320 clearance must be obtained.

G. Civil Justice Reform

This final rule does not have any retroactive effect. Under 49 U.S.C. 30103(b), whenever a Federal motor vehicle safety standard is in effect, a state or political subdivision may prescribe or continue in effect a standard applicable to the same aspect of performance of a Federal motor vehicle safety standard only if the standard is identical to the Federal standard. However, the United States Government, a state, or political subdivision of a state, may prescribe a standard for a motor vehicle or motor vehicle equipment obtained for its own use that imposes a higher performance requirement than that required by the Federal standard. 49 U.S.C. 30161 sets forth a procedure for judicial review of final rules establishing, amending, or revoking Federal motor vehicle safety standards. A petition for reconsideration or other administrative proceedings are not required before parties file suit in court.

H. Plain Language

Executive Order 12866 requires each agency to write all rules in plain language. Application of the principles of plain language includes consideration of the following questions:

—Have we organized the material to suit the public's needs?

—Are the requirements in the rule clearly stated?

—Does the rule contain technical language or jargon that is not clear?

—Would a different format (grouping and order of sections, use of headings, paragraphing) make the rule easier to understand?

—Would more (but shorter) sections be better?

—Could we improve clarity by adding tables, lists, or diagrams?

—What else could we do to make the rule easier to understand?

Comment is solicited on the extent to which this final rule effectively uses plain language principles.

I. National Technology Transfer and Advancement Act

Under the National Technology and Transfer and Advancement Act of 1995 (NTTAA) (Pub. L. 104-113), “all Federal agencies and departments shall use technical standards that are developed or adopted by voluntary consensus standards bodies, using such technical standards as a means to carry out policy objectives or activities determined by the agencies and departments.”

Certain technical standards developed by the American National Standards Institute (ANSI) and Society of Automotive Engineers (SAE) have been considered and incorporated by reference in the final rule published on July 25, 2003, which upgraded the requirements of FMVSS No. 205. This final rule clarifies provisions of the July 25, 2003 final rule.

J. Privacy Act

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov.

K. Executive Order 13045, Economically Significant Rules Disproportionately Affecting Children

This rule is not subject to E.O. 13045 because it is not “economically significant” as defined under E.O. 12866, and does not concern an environmental, health or safety risk that NHTSA has reason to believe may have a disproportionate effect on children.

List of Subjects in 49 CFR Part 571

Imports, Motor vehicle safety, Motor vehicles.

For the reasons set forth in the preamble, the Agency amends 49 CFR Part 571 as follows.

PART 571—FEDERAL MOTOR VEHICLE SAFETY STANDARDS

1. The authority citation for part 571 continues to read as follows:

Authority: 49 U.S.C. 322, 30111, 30115, 30117, 30166 and 30177; delegations of authority at 49 CFR 1.50.

2. In consideration of the foregoing, § 571.205 is amended by revising S3.1, adding S5.1.1, S5.1.2, and S5.1.3, and by revising S5.2, S5.3, and S5.5, to read as follows:

§ 571.205 Glazing Materials

* * * * *

S3.1 Application.

(a) This standard applies to passenger cars, multipurpose passenger vehicles, trucks, buses, motorcycles, slide-in campers, pickup covers designed to carry persons while in motion and low speed vehicles, and to glazing materials for use in those vehicles.

(b) For glazing materials manufactured before September 1, 2006, and for motor vehicles, slide-in campers and pickup covers designed to carry persons while in motion, manufactured before November 1, 2006, the manufacturer may, at its option, comply with 49 CFR 571.205(a) of this section.

* * * * *

S5.1.1 Multipurpose passenger vehicles. Except as otherwise specifically provided by this standard, glazing for use in multipurpose passenger vehicles shall conform to the requirements for glazing for use in trucks as specified in ANSI/SAE Z26.1-1996.

S5.1.2 Aftermarket replacement glazing. Glazing intended for aftermarket replacement is required to meet the requirements of this standard or the requirements of 49 CFR 571.205(a) applicable to the glazing being replaced.

S5.1.3 Location of arrow within “AS” markings. In ANSI/SAE Z26.1-1996 (August 11, 1997) Section 7. “Marking of Safety Glazing Materials,” on page 33, in the right column, in the first complete sentence, the example markings “AS↓1”, “AS↓14” and “AS↑2” are corrected to read “A↓S1”, “A↓S14” and “A↑S2”. Note that the arrow indicating the portion of the material that complies with Test 2 is placed with its base adjacent to a horizontal line.

S5.2 Each of the test specimens described in ANSI/SAE Z26.1-1996 Section 5.7 (fracture test) must meet the fracture test requirements of that section when tested in accordance with the test procedure set forth in that section.

S5.3 Shade Bands. Shade band areas for windshields shall comply with the requirements of either S5.3.1 or S5.3.2.

S5.3.1 Shade bands for windshields shall comply with SAE J100 NOV1999.

S5.3.2 Except as provided in S5.3.2.1, the lower boundary of shade bands for windshields shall be a plane inclined upwards from the X axis of the vehicle at 7 degrees, passing through point V1, and parallel to the Y axis. The coordinate system and point V1 shall be as specified in Annexes 18 and 19 of European Commission for Europe (ECE) Regulation No. 43 Revision 2—Amendment 1.

S5.3.2.1 In the area 300 mm wide centered on the intersection of the windshield surface and longitudinal vertical median plane of the vehicle, the lower boundary of shade bands for windshields shall be a plane inclined upwards from the X axis of the vehicle at 3 degrees, passing through point V1, and parallel to the Y axis.

* * * * *

S5.5 Item 4A Glazing. Item 4A glazing may be used in all areas in which Item 4 safety glazing may be used, and also for side windows rearward of the “C” pillar. I.e., Item 4A glazing may be used under Item 4A paragraph (b) of ANSI/SAE Z26.1-1996 only in side windows rearward of the “C” pillar.

* * * * *

3. Section 571.205(a) is added to read as follows:

§ 571.205(a) Glazing equipment manufactured before September 1, 2006 and glazing materials used in vehicles manufactured before November 1, 2006.

S1. Scope. This standard specifies requirements for glazing equipment manufactured before September 1, 2006 for use in motor vehicles and motor vehicle equipment, and specifies requirements for motor vehicles manufactured before November 1, 2006 and for replacement glazing for those vehicles. A manufacturer may, at its option, comply with 49 CFR 571.205 instead of this standard.

S2. Purpose. The purpose of this standard is to reduce injuries resulting from impact to glazing surfaces, to ensure a necessary degree of transparency in motor vehicle windows for driver visibility, and to minimize the possibility of occupants being thrown through the vehicle windows in collisions.

S3. Application. This standard applies to glazing equipment manufactured before September 1, 2006 for use in motor vehicles and motor vehicle equipment. In addition, this standard applies to the following vehicles manufactured before November 1, 2006: passenger cars, low speed vehicles, multipurpose passenger vehicles, trucks, buses, and motorcycles. This standard also applies to slide-in campers, and pickup covers designed to carry persons while in motion, manufactured before November 1, 2006.

S4. Definitions

Bullet resistant shield means a shield or barrier that is installed completely inside a motor vehicle behind and separate from glazing materials that independently comply with the requirements of this standard.

Camper means a structure designed to be mounted in the cargo area of a truck, or attached to an incomplete vehicle with motive power, for the purpose of providing shelter for persons.

Glass-plastic glazing material means a laminate of one or more layers of glass and one or more layers of plastic in which a plastic surface of the glazing faces inward when the glazing is installed in a vehicle.

Motor home means a multipurpose passenger vehicle that provides living accommodations for persons.

Pickup cover means a camper having a roof and sides but without a floor, designed to be mounted on and removable from the cargo area of a truck by the user.

Slide-in camper means a camper having a roof, floor, and sides, designed to be mounted on and removable from the cargo area of a truck by the user.

S5. Requirements

S5.1. Materials

S5.1.1 Glazing materials for use in motor vehicles, except as otherwise provided in this standard shall conform to the American National Standard “Safety Code for Safety Glazing Materials for Glazing Motor Vehicles Operating on Land Highways” Z-26.1-1977, January 26, 1977, as supplemented by Z26.1a, July 3, 1980 (hereinafter referred to as “ANS Z26”). However, Item 11B glazing as specified in that standard may not be used in motor vehicles at levels requisite for driving visibility, and Item 11B glazing is not required to pass Tests Nos. 17, 30, and 31.

S5.1.1.1 The chemicals specified for testing chemical resistance in Tests Nos. 19 and 20 of ANS Z26 shall be:

(a) One percent solution of nonabrasive soap.

(b) Kerosene.

(c) Undiluted denatured alcohol, Formula SD No. 30 (1 part 100-percent methyl alcohol in 10 parts 190-proof ethyl alcohol by volume).

(d) Gasoline, ASTM Reference Fuel C, which is composed of Isooctane 50 volume percentage and Toluene 50 volume percentage. Isooctane must conform to A2.7 in Annex 2 of the Motor Fuels Section of the 1985 Annual Book of ASTM Standards, Vol. 05.04, and Toluene must conform to ASTM Specification D362-84, Standard Specification for Industrial Grade Toluene. ASTM Reference Fuel C must be used as specified in:

(1) Paragraph A2.3.2 and A2.3.3 of Annex 2 of Motor Fuels, Section 1 in the 1985 Annual Book of ASTM Standards; and

(2) OSHA Standard 29 CFR 1910.106—“Handling Storage and Use of Flammable Combustible Liquids.” This incorporation by reference was approved by the Director of the Federal Register in accordance with 5 U.S.C. 552(a) and in 1 CFR part 51. Copies may be inspected at the Technical Reference Library, NHTSA, 400 Seventh Street, SW., Room 5108, Washington, DC 20590, or at the Office of the Federal Register, 800 North Capitol Street, NW., Suite 700, Washington, DC 20408.

S5.1.1.2 The following locations are added to the lists specified in ANS Z26 in which item 4, item 5, item 8, and item 9 safety glazing my be used:

(a)-(i) [Reserved]

(j) Windows and doors in motor homes, except for the windshield and windows to the immediate right or left of the driver.

(k) Windows and doors in slide-in campers and pickup covers.

(l) Windows and doors in buses except for the windshield, windows to the immediate right or left of the driver, and rearmost windows if used for driving visibility.

(m) For Item 5 safety glazing only: Motorcycle windscreens below the intersection of a horizontal plane 380 millimeters vertically above the lowest seating position.

S5.1.1.3 The following locations are added to the lists specified in ANS Z26 in which item 6 and item 7 safety glazing may be used:

(a)-(i) [Reserved]

(j) Windows and doors in motor homes, except for the windshield, forward-facing windows, and windows to the immediate right or left of the driver.

(k) Windows, except forward-facing windows, and doors in slide-in campers and pickup covers.

(l) For item 7 safety glazing only:

(1) Standee windows in buses.

(2) Interior partitions.

(3) Openings in the roof.

S5.1.1.4 The following locations are added to the lists specified in ANS Z26 in which item 8 and item 9 safety glazing may be used:

(a)-(e) [Reserved].

(f) Windows and doors in motor homes, except for the windshield and windows to the immediate right or left of the driver.

(g) Windows and doors in slide-in campers and pickup covers.

S5.1.1.5 The phrase “readily removable” windows as defined in ANS Z26, for the purposes of this standard, in buses having a GVWR of more than 4536 kilograms (10,000 pounds), shall include pushout windows and windows mounted in emergency exits that can be manually pushed out of their location in the vehicle without the use of tools, regardless of whether such windows remain hinged at one side to the vehicle.

S5.1.1.6 Multipurpose passenger vehicles. Except as otherwise specifically provided by this standard, glazing for use in multipurpose passenger vehicles shall conform to the requirements for glazing for use in trucks as specified in ANS Z26.

S5.1.1.7 Test No. 17 is deleted from the list of tests specified in ANS Z26 for Item 5 glazing material and Test No. 18 is deleted from the lists of tests specified in ANS Z26 for Item 3 and Item 9 glazing material.

S5.1.2 In addition to the glazing materials specified in ANS Z26, materials conforming to S5.1.2.1, S5.1.2.2, S5.1.2.3, S5.1.2.4, S5.1.2.5, S5.1.2.6, S5.1.2.7, S5.1.2.8, and S5.1.2.11 may be used in the locations of motor vehicles specified in those sections.

S5.1.2.1 Item 11C—Safety Glazing Material for Use in Bullet Resistant Shields. Bullet resistant glazing that complies with Tests Nos. 2, 17, 19, 20, 21, 24, 27, 28, 29, 30 and 32 of ANS Z26 and the labeling requirements of S5.1.2.5 may be used only in bullet resistant shields that can be removed from the motor vehicle easily for cleaning and maintenance. A bullet resistant shield may be used in areas requisite for driving visibility only if the combined parallel luminous transmittance with perpendicular incidence through both the shield and the permanent vehicle glazing is at least 60 percent.

S5.1.2.2 Item 12—Rigid Plastics. Safety plastics materials that comply with Tests Nos. 10, 13, 16, 19, 20, 21,and 24 of ANS Z26, with the exception of the test for resistance to undiluted denatured alcohol Formula SD No. 30, and that comply with the labeling requirements of S5.1.2.5, may be used in a motor vehicle only in the following specified locations at levels not requisite for driving visibility.

(a) Window and doors in slide-in campers and pickup covers.

(b) Motorcycle windscreens below the intersection of a horizontal plane 380 millimeters vertically above the lowest seating position.

(c) Standee windows in buses.

(d) Interior partitions.

(e) Openings in the roof.

(f) Flexible curtains or readily removable windows or in ventilators used in conjunction with readily removable windows.

(g) Windows and doors in motor homes, except for the windshield and windows to the immediate right or left of the driver.

(h) Windows and doors in buses, except for the windshield and window to the immediate right and left of the driver.

S5.1.2.3 Item 13—Flexible plastics. Safety plastic materials that comply with Tests Nos. 16, 19, 20, 22, and 23 or 24 of ANS Z26, with the exception of the test for resistance to undiluted denatured alcohol Formula SD No. 30, and that comply with the labeling requirements of S5.1.2.5 may be used in the following specific locations at levels not requisite for driving visibility.

(a) Windows, except forward-facing windows, and doors in slide-in campers and pickup covers.

(b) Motorcycle windscreens below the intersection of a horizontal plane 380 millimeters vertically above the lowest standing position.

(c) Standee windows in buses.

(d) Interior partitions.

(e) Openings in the roof.

(f) Flexible curtains or readily removable windows or in ventilators used in conjunction with readily removable windows.

(g) Windows and doors in motor homes, except for the windshield, forward-facing windows, and windows to the immediate right or left of the driver.

S5.1.2.4 Item 14—Glass Plastics. Glass-plastic glazing materials that comply with the labeling requirements of S5.1.2.10 and Tests Nos. 1, 2, 3, 4, 9, 12, 15, 16, 17, 18, 19, 24, 26, and 28, as those tests are modified in S5.1.2.9, Test Procedures for Glass-Plastics, may be used anywhere in a motor vehicle, except that it may not be used in windshields of any of the following vehicles: convertibles, vehicles that have no roof, vehicles whose roofs are completely removable.

S5.1.2.5 Item 15A—Annealed Glass-Plastic for Use in All Positions in a Vehicle Except the Windshield. Glass-plastic glazing materials that comply with Tests Nos. 1, 2, 3, 4, 9, 12, 16, 17, 18, 19, 24, and 28, as those tests are modified in S5.1.2.9 Test Procedures for Glass-Plastics, may be used anywhere in a motor vehicle except the windshield.

S5.1.2.6 Item 15B—Tempered Glass-Plastic for Use in All Positions in a Vehicle Except the Windshield. Glass-plastic glazing materials that comply with Tests Nos. 1, 2, 3, 4, 6, 7, 8, 16, 17, 18, 19, 24, and 28, as those tests are modified in S5.1.2.9 Test Procedures for Glass-Plastics, may be used anywhere in a motor vehicle except the windshield.

S5.1.2.7 Item 16A—Annealed Glass-Plastic for Use in All Positions in a Vehicle Not Requisite for Driving Visibility. Glass-plastic glazing materials that comply with Tests Nos. 3, 4, 9, 12, 16, 19, 24, and 28, as those tests are modified in S5.1.2.9 Test Procedures for Glass-Plastics, may be used in a motor vehicle in all locations not requisite for driving visibility.

S5.1.2.8 Item 16B—Tempered Glass-Plastic for Use in All Positions in a Vehicle Not Requisite for Driving Visibility. Glass-plastic glazing materials that comply with Tests Nos. 3, 4, 6, 7, 8, 16, 19, 24, and 28, as those tests are modified in S5.1.2.9 Test Procedures for Glass-Plastics, may be used in a motor vehicle in all locations not requisite for driving visibility.

S5.1.2.9—Test Procedures for Glass-Plastics. (a) Tests Nos. 6, 7, 8, 9, 12, 16, and 18, shall be conducted on the glass side of the specimen, i.e., the surface which would face the exterior of the vehicle. Tests Nos. 17, 19, 24, and 26 shall be conducted on the plastic side of the specimen, i.e., the surface which would face the interior of the vehicle. Test No. 15 should be conducted with the glass side of the glazing facing the illuminated box and the screen, respectively. For Test No. 19, add the following to the specified list: an aquaeous solution of isopropanol and glycol ether solvents in concentration no greater than ten percent or less than five percent by weight and ammonium hydroxide no greater than five percent or less than one percent by weight, simulating typical commercial windshield cleaner.

(b) Glass-plastic specimens shall be exposed to an ambient air temperature of −40 degrees Celsius (plus or minus 5 degrees Celsius), for a period of 6 hours at the commencement of Test No. 28, rather than at the initial temperature specified in that test. After testing, the glass-plastic specimens shall show no evidence of cracking, clouding, delaminating, or other evidence of deterioration.

(c) Glass-plastic specimens tested in accordance with Test No. 17 shall be carefully rinsed with distilled water following the abrasion procedure and wiped dry with lens paper. After this procedure, the arithmetic means of the percentage of light scattered by the three specimens as a result of abrasion shall not exceed 4.0 percent.

(d) Data obtained from Test No. 1 should be used when conducting Test No. 2.

(e)(1) Except as provided in S5.1.2.9(e)(2), glass-plastic glazing specimens tested in accordance with Tests Nos. 9, 12, and 26 shall be clamped in the test fixture in Figure 1 of this standard in the manner shown in that figure. The clamping gasket shall be made of rubber 3 millimeters (mm) thick of hardness 50 IRHD (International Rubber Hardness Degrees), plus or minus five degrees. Movement of the test specimen, measured after the test, shall not exceed 2 mm at any point along the inside periphery of the fixture. Movement of the test specimen beyond the 2 mm limit shall be considered an incomplete test, not a test failure. A specimen used in such an incomplete test shall not be retested.

(2) At the option of the manufacturer, glass-plastic glazing specimens tested in accordance with Tests Nos. 9 and 12 may be tested unclamped. Such specimens shall be tested using the fixture in Figure 1 of the standard, including the upper frame (unclamped) which holds the specimen in place.

S5.1.2.10 Cleaning Instructions. (a) Each manufacturer of glazing materials designed to meet the requirements of S5.1.2.1., S5.1.2.2, S5.1.2.3, S5.1.2.4, S5.1.2.5, S5.1.2.6, S5.1.2.7, S5.1.2.8, or S5.1.2.11 shall affix a label, removable by hand without tools, to each item of glazing materials. The label shall identify the product involved, specify instructions and agents for cleaning the material that will minimize the loss of transparency, and instructions for removing frost and ice, and, at the option of the manufacturer, refer owners to the vehicle's Owners Manual for more specific cleaning and other instructions.

(b) Each manufacturer of glazing materials designed to meet the requirements of paragraphs S5.1.2.4, S5.1.2.5, S5.1.2.6, S5.1.2.7, or S5.1.2.8 may permanently and indelibly mark the lower center of each item of such glazing material, in letters not less than 4.5 millimeters nor more than 6 millimeters high, the following words, GLASS PLASTIC MATERIAL—SEE OWNER'S MANUAL FOR CARE INSTRUCTIONS.

S5.1.2.11 Test Procedures for Item 4A—Rigid Plastic for Use in Side Windows Rearward of the C” Pillar. (a) Glazing materials that comply with Tests Nos. 2, 10, 13, 16, 17, as that test is modified in S5.1.2.9(c) (on the interior side only), 17, as that test is modified in paragraph (b) of this section (on the exterior side only), 19, 20, 21, and 24 of ANS Z26.1, may be used in the following specific locations:

(1) All areas in which item 4 safety glazing may be used.

(2) Any side window that meets the criteria in S5.1.2.11(a)(2)(i) and (ii):

(i) Is in a vehicle whose rearmost designated seating position is forward-facing and cannot be adjusted so that it is side or rear-facing; and

(ii) The forwardmost point on its visible interior surface is rearward of the vertical transverse plane that passes through the shoulder reference point (as described in Figure 1 of Section 571.210 Seat belt assembly anchorages) of that rearmost seating position.

(b)(1) The initial maximum haze level shall not exceed 1.0 percent. The specimens are subjected to abrasion for 100 cycles and then carefully wiped with dry lens paper (or its equivalent). The light scattered by the abraded track is measured in accordance with Test 17. The arithmetic mean of the percentages of light scattered by the three specimens shall not exceed 4.0 percent after being subjected to abrasion for 100 cycles.

(2) The specimen is remounted on the specimen holder so that it rotates substantially in a plane and subjected to abrasion for an additional 400 cycles on the same track already abraded for 100 cycles. Specimens are carefully wiped after abrasion with dry lens paper (or its equivalent). The light scattered by the abraded track is then measured as specified in Test 17. The arithmetic mean of the percentages of light scattered by the three specimens shall not exceed 10.0 percent after being subjected to abrasion for 500 cycles.

S5.2 Edges. In vehicles except schoolbuses, exposed edges shall be treated in accordance with SEA Recommended Practice J673a, “Automotive Glazing,” August 1967. In schoolbuses, exposed edges shall be banded.

S6. Certification and Marking.

S6.1 Each prime glazing material manufacturer, except as specified below, shall mark the glazing materials it manufactures in accordance with section 6 of ANS Z26. The materials specified in S5.1.2.1, S5.1.2.2, S5.1.2.3, S5.1.2.4, S5.1.2.5, S5.1.2.6, S5.1.2.7, S5.1.2.8, and S5.1.2.11 shall be identified by the marks “AS 11C”, “AS 12”, “AS 13”, “AS 14”, “AS 15A”, “AS 15B”, “AS 16A”, “AS 16B”, and “AS 4”, respectively. A prime glazing material manufacturer is one which fabricates, laminates, or tempers the glazing material.

S6.2 Each prime glazing material manufacturer shall certify each piece of glazing material to which this standard applies that is designed as a component of any specific motor vehicle or camper, pursuant to section 114 of the National Traffic and Motor Vehicle Safety Act of 1966 (49 U.S.C. § 30115), by adding to the mark required by S6.1 in letters and numerals of the size specified in section 6 of ANS Z26, the symbol “DOT” and a manufacturer's code mark, which will be assigned by NHTSA on the written request of the manufacturer.

S6.3 Each prime glazing material manufacturer shall certify each piece of glazing material to which this standard applies that is designed to be cut into components for use in motor vehicles or items of motor vehicle equipment, pursuant to section 114 of the National Traffic and Motor Vehicle Safety Act (49 U.S.C. § 30115).

S6.4 Each manufacturer or distributor who cuts a section of glazing material to which this standard applies, for use in a motor vehicle or camper, shall mark that material in accordance with section 6 of ANS Z26.

S6.5 Each manufacturer or distributor who cuts a section of glazing material to which this standard applies, for use in a motor vehicle or camper, shall certify that his product complies with this standard in accordance with section 114 of the National Traffic and Motor Vehicle Safety Act (49 U.S.C. 30115).

BILLING CODE 4910-59-P

Issued on: June 29, 2005.
Jeffrey W. Runge,
Administrator.

[FR Doc. 05-13248 Filed 7-11-05; 8:45 am]

BILLING CODE 4910-59-C